DEPARTMENT OF ENERGY

Federal Energy Regulatory Commission

[Project No. 2485-021]

Notice of Application for Amendment of License and Soliciting Comments, Motions To Intervene, and Protests

July 23, 2003.

Take notice that the following application has been filed with the Commission and is available for public inspection:

a. Application Type: Amendment of Recreation Plan.

b. Project No: 2485-021.

c. Date Filed: May 28, 2003.

d. Applicant: Northeast Generation Company.

e. Name of Project: Northfield Mountain Pumped Storage Project.

f. Location: The project is located on the Connecticut River in Franklin County, Massachusetts.

g. Filed Pursuant to: Federal Power Act, 16 U.S.C. 791(a)-825(r) and 799 and 801.

h. Applicant Contact: Catherine E. Shively, Senior Counsel, Northeast Utilities Service Company, 780 North Commercial Street, P.O. Box 330, Manchester, NH 03105 (603) 634-2326.

i. FERC Contact: Any questions on this notice should be addressed to Mrs. Heather Campbell at (202) 502-6182 or e-mail address: heather.campbell@ferc.gov.

j. Deadline for filing comments and or motions: August 25, 2003.

All documents (original and eight copies) should be filed with: Magalie R. Salas, Secretary, Federal Energy Regulatory Commission, 888 First Street, NE., Washington, DC 20426. Please include the project number (P-2485-021) Federal Energy Regulatory Commission, 888 First Street, NE., Washington, DC 20426. Comments, protests, and interventions may be filed electronically via the Internet in lieu of paper. See 18 CFR 385.2001(a)(1)(iii) and the instructions on the Commission's Web site under the “e-Filing” link.

k. Description of the Application: Northeast Utilities Service Company is requesting an amendment of its approved recreation plan to permanently suspend public tours of the project's powerhouse and upper reservoir. Tours would be provided to groups specifically invited by the licensee. No other public access areas would be affected.

l. Locations of the Application: This filing is available for review at the Commission in the Public Reference Room or may viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. A copy is also available for inspection and reproduction at the address in item h above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-19392 Filed 7-30-03; 8:45 am]

BILLING CODE 6717-01-P